DEPARTMENT OF TRANSPORTATION

Federal Railroad Administration

[Docket Number FRA-2009-0074]

Petition for Waiver of Compliance

Under part 211 of Title 49 of the Code of Federal Regulations (CFR), this provides the public notice that on July 28, 2017, the Canadian National Railway Company (CN), the Transportation Division of the International Association of Sheet Metal, Air, Rail, and Transportation Workers (TD-SMART) and the Brotherhood of Locomotive Engineers and Trainmen (BLET) collectively petitioned the Federal Railroad Administration (FRA) for an extension of CN's existing waiver of compliance from certain provisions of the hours of service laws contained at Title 49 United States Code (U.S.C.) section 21103(a)(4). FRA assigned the petition Docket Number FRA-2009-0074.

CN requested an extension of its existing waiver from the provisions of 49 U.S.C. 21103(a), which prohibits a train employee from remaining or going on duty after that employee has initiated an on-duty period each day for six consecutive days, unless that employee has had at least 48 consecutive hours off duty at the employee's home terminal. Specifically, CN, on behalf of its railroad operating subsidiaries based in the United States, and its unions, seeks a waiver to allow train employees to initiate an on-duty period each day for 6 consecutive days followed by 24 hours off duty. In support of the request, CN, BLET, and SMART explained that CN has operated these schedules of 6 consecutive on-duty periods followed by 24 hours off duty successfully since 2002. CN, BLET, and SMART indicate that these schedules have not had an adverse impact on safety.

CN also provided an analysis of the most current 12-month period of train-employee on-duty human factor-related accidents and injuries. CN indicates that its analyses revealed that of the 13 human factor-related accidents involving CN employees in the preceding 12 months, none involved employees covered under the waiver working 6 consecutive days followed by 24 hours off duty.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received December 11, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-23235 Filed 10-25-17; 8:45 am]

BILLING CODE 4910-06-P